DEPARTMENT OF THE INTERIOR

Bureau of Indian Affairs

Indian Gaming

AGENCY: Bureau of Indian Affairs, Interior.

ACTION: Notice of deemed approved Slots Only Compact.

SUMMARY: This notice publishes a deemed approved Slots Only Compact between the Washoe Tribe of Nevada and California and the State of Nevada. Under the Indian Gaming Regulatory Act of 1988, the Secretary of the Interior is required to publish notice in the Federal Register approved Tribal-State compacts for the purpose of engaging in Class III gaming activities on Indian lands.

DATES: Effective July 16, 2004.

FOR FURTHER INFORMATION CONTACT: George T. Skibine, Director, Office of Indian Gaming Management, Office of the Deputy Assistant Secretary—Policy and Economic Development, Washington, DC 20240, (202) 219-4066.

SUPPLEMENTARY INFORMATION: Under section 11 of the Indian Gaming Regulatory Act of 1988 (IGRA) Public Law 100-497, 25 U.S.C. 2710, the Secretary of the Interior shall publish in the Federal Register notice of approved Tribal-State compacts for the purpose of engaging in Class III gaming activities on Indian lands. The Slots Only Compact between the Washoe Tribe of Nevada and California and the State of Nevada is deemed approved. By the terms of IGRA, the Compact is considered approved, but only to the extent the compact is consistent with the provisions of IGRA.

The Principal Deputy Assistant Secretary—Indian Affairs, Department of the Interior, through her delegated authority, is publishing notice that the Slots Only Compact between the Washoe Tribe of Nevada and California and the State of Nevada is now in effect.

Dated: June 29, 2004.
Aurene M. Martin,
Principal Deputy Assistant Secretary—Indian Affairs.

[FR Doc. 04-16199 Filed 7-15-04; 8:45 am]

BILLING CODE 4310-4N-P